ENVIRONMENTAL PROTECTION AGENCY

[EPA-HQ-OLEM-2018-0758, FRL-10447-01-OMS]

Information Collection Request Submitted to OMB for Review and Approval; Comment Request; Part B Permit Application, Permit Modifications, and Special Permits (Renewal)

AGENCY: Environmental Protection Agency (EPA).

ACTION: Notice.

SUMMARY: The Environmental Protection Agency (EPA) has submitted an information collection request (ICR), Part B Permit Application, Permit Modifications, and Special Permits (EPA ICR Number 1573.16, OMB Control Number 2050-0009) to the Office of Management and Budget (OMB) for review and approval in accordance with the Paperwork Reduction Act. This is a proposed extension of the ICR, which is currently approved through January 31, 2023. Public comments were previously requested via the Federal Register on June 13, 2022 during a 60-day comment period. This notice allows for an additional 30 days for public comments. A fuller description of the ICR is given below, including its estimated burden and cost to the public. An agency may not conduct or sponsor and a person is not required to respond to a collection of information unless it displays a currently valid OMB control number.

DATES: Additional comments may be submitted on or before December 27, 2022.

ADDRESSES: Submit your comments, referencing Docket ID No. EPA-HQ-OLEM-2018-0758, to EPA online using www.regulations.gov (our preferred method), or by mail to: RCRA Docket (2822T), U.S. Environmental Protection Agency, 1200 Pennsylvania Avenue NW, Washington, DC 20460. EPA's policy is that all comments received will be included in the public docket without change including any personal information provided, unless the comment includes profanity, threats, information claimed to be Confidential Business Information (CBI) or other information whose disclosure is restricted by statute.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Peggy Vyas, Environmental Protection Agency, 1200 Pennsylvania Ave. NW, Washington, DC 20460; telephone number: 202-566-0453; email address: vyas.peggy@epa.gov.

SUPPLEMENTARY INFORMATION: Supporting documents which explain in detail the information that the EPA will be collecting are available in the public docket for this ICR. The docket can be viewed online at www.regulations.gov. Materials can also be viewed at the Reading Room located at the EPA Docket Center, WJC West Building, Room 3334, 1301 Constitution Avenue NW, Washington, DC 20004. The Docket Center's hours of operations are 8:30 a.m.-4:30 p.m., Monday-Friday (except Federal Holidays). The telephone number for the Docket Center is 202-566-1744.

Abstract: Section 3005 of subtitle C of RCRA requires treatment, storage or disposal facilities (TSDFs) to obtain a permit. To obtain the permit, the TSDFs must submit an application describing the facility's operation. There are two parts to the RCRA permit application—Part A and Part B. Part A defines the processes to be used for treatment, storage, and disposal of hazardous wastes; the design capacity of such processes; and the specific hazardous wastes to be handled at the facility. Part B requires detailed site-specific information such as geologic, hydrologic, and engineering data. In the event that permit modifications are proposed by the applicant or the EPA, modifications must conform to the requirements under sections 3004 and 3005.

Form Numbers: None.

Respondents/affected entities: Entities potentially affected by this action are private sector and State, local, or Tribal governments.

Respondent's obligation to respond: Mandatory (RCRA Section 3005).

Estimated number of respondents: 154.

Frequency of response: On occasion.

Total estimated burden: 19,437 hours per year. Burden is defined at 5 CFR 1320.03(b).

Total estimated cost: $4,916,736 (per year), includes $3,761,703 annualized capital or operation & maintenance costs.

Changes in the Estimates: There is a decrease of 649 hours in the total estimated respondent burden compared with the ICR currently approved by OMB. This decrease is due to a decrease in the respondent universe.

Courtney Kerwin,
Director, Regulatory Support Division.

[FR Doc. 2022-25630 Filed 11-23-22; 8:45 am]

BILLING CODE 6560-50-P